ENVIRONMENTAL PROTECTION AGENCY

40 CFR Part 63

[OAR-2003-0193; FRL-7925-8]

RIN 2060-AL91

National Emission Standards for Hazardous Air Pollutants: Cellulose Products Manufacturing

AGENCY: Environmental Protection Agency (EPA).

ACTION: Final rule; correction.

SUMMARY: We are taking final action to amend the national emission standards for hazardous air pollutants (NESHAP) for Cellulose Products Manufacturing. This amendment will correct the date in the definition of a process change that was included in the final rule. Without this amendment, the earliest date on which changes could qualify as process changes for compliance purposes would be January 1992. With this action, process changes implemented in January 1991 and later can qualify as process changes for compliance purposes.

This action corrects an error by the Agency and makes the regulatory language consistent with the technical background work that was performed during the development of the standards. Thus, it is proper to issue this final rule correction without notice and comment.

DATES: Effective Date: The correction is effective on June 24, 2005.

FOR FURTHER INFORMATION CONTACT: Mr. Bill Schrock, Organic Chemicals Group, Emission Standards Division (C504-04), Office of Air Quality Planning and Standards, EPA, Research Triangle Park, North Carolina 27711, telephone number (919) 541-5032, facsimile number (919) 541-3470, electronic mail (e-mail) address schrock.bill@epa.gov.

SUPPLEMENTARY INFORMATION:

I. Background

The EPA, under section 112 of the CAA, promulgated the NESHAP for cellulose products manufacturing on June 11, 2002 (67 FR 40044). The final rule, codified at 40 CFR part 63, subpart UUUU, includes definitions of a process change for the viscose industry, as well as the cellulose ether industry. Following promulgation of the rule, Teepak, Inc., requested that we issue specific amendments to the final rule changing the date that process changes that reduced emissions could be utilized for the purpose of demonstrating compliance. Their request was based on the calculations for the maximum achievable control technology (MACT) floor which included these process changes.

II. Summary of Amendment

This document corrects the definition for “viscose process change” under 40 CFR 63.5610 which states that the process change must occur “no earlier than January 1992.” In the CAA section 114 information collection request sent to the industry in 1998, EPA requested information on source reduction measures implemented since 1987. In their response, Teepak provided information on three projects that reduced emissions per unit length of food casing produced, and one of these projects was implemented in January 1991. According to Teepak, EPA indicated it would credit Teepak for emission reductions from that project. Noting that the Teepak level of control was chosen as the MACT floor, Teepak has recommended that the definition for “viscose process change” be amended to “no earlier than January 1991.”

The definition for “viscose process change” as promulgated effectively excludes the 1991 process change at Teepak that was accounted for in our MACT floor calculations. Since we established the MACT floor for cellulose food casing operations based on the level of emission control achieved at Teepak, we are making the suggested revision to the definition for “viscose process change.” For consistency, we are revising the definition for “cellulose ether process change” similarly.

III. Statutory and Executive Order Reviews

Under Executive Order 12866, Regulatory Planning and Review (58 FR 51735, October 4, 1993), this action is not a “significant regulatory action” and is, therefore, not subject to review by the Office of Management and Budget (“OMB”). This action is not a “major rule” as defined by 5 U.S.C. 804(2). The technical correction does not impose an information collection burden under the provisions of the Paperwork Reduction Act of 1995 (44 U.S.C. 3501 et seq.).

Because EPA has made a “good cause” finding that this action is not subject to notice and comment requirements under the APA or any other statute, it is not subject to the regulatory flexibility provisions of the Regulatory Flexibility Act (5 U.S.C. 601 et seq.), or to sections 202 and 205 of the Unfunded Mandates Reform Act of 1995 (Pub. L. 104-4). In addition, this action does not significantly or uniquely affect small governments or impose a significant intergovernmental mandate, as described in sections 203 and 204 of the UMRA.

The correction does not have substantial direct effects on the States, or on the relationship between the national Government and the States, or on the distribution of power and responsibilities among the various levels of Government, as specified in Executive Order 13132, Federalism (64 FR 43255, August 10, 1999).

Today's action also does not significantly or uniquely affect the communities of tribal governments, as specified by Executive Order 13175, Consultation and Coordination with Indian Tribal Governments (65 FR 67249, November 9, 2000). The technical correction also is not subject to Executive Order 13045, Protection of Children from Environmental Health and Safety Risks (62 FR 19885, April 23, 1997) because it is not economically significant.

The correction is not subject to Executive Order 13211, Actions Concerning Regulations That Significantly Affect Energy Supply, Distribution, or Use (66 FR 28355, May 22, 2001) because it is not a significant regulatory action under Executive Order 12866.

Section 553 of the Administrative Procedure Act (APA), 5 U.S.C. 553(b)(B), provides that, when an Agency for good cause finds that notice and public procedure are impracticable, unnecessary, or contrary to the public interest, the Agency may issue a rule without providing notice and an opportunity for public comment. We have determined that there is good cause for making today's action final without prior proposal and opportunity for comment because the change to the rule corrects an error, is noncontroversial, and is consistent with the technical basis of the rule. Thus, notice and public procedure are unnecessary. We find that this constitutes good cause under 5 U.S.C. 553(b)(B) (see also the final sentence of section 307(d)(1) of the CAA, 42 U.S.C. 7607(d)(1), indicating that the good cause provisions of the APA continue to apply to rulemaking under section 307(d) of the Clean Air Act (CAA).

Section 553(d)(3) allows an agency, upon a finding of good cause, to make a rule effective immediately. Because today's changes relieve an unintended restriction, we find good cause to make these technical corrections effective immediately.

The correction action does not involve changes to the technical standards related to test methods or monitoring methods; thus, the requirements of section 12(d) of the National Technology Transfer and Advancement Act of 1995 (15 U.S.C. 272) do not apply.

The correction also does not involve special consideration of environmental justice-related issues as required by Executive Order 12898, Federal Actions to Address Environmental Justice in Minority Populations and Low-Income Populations (59 FR 7629, February 16, 1994).

The Congressional Review Act, 5 U.S.C. 801 et seq., as added by SBREFA of 1996, generally provides that before a rule may take effect, the agency promulgating the rule must submit a rule report, which includes a copy of the rule, to each House of the Congress and to the Comptroller General of the U.S. The EPA will submit a report containing this final action and other required information to the U.S. Senate, the U.S. House of Representatives, and the Comptroller General of the U.S. prior to publication of today's action in the Federal Register. Today's action is not a “major rule” as defined by 5 U.S.C. 804(2). The final rule will be effective on June 24, 2005.

List of Subjects in 40 CFR Part 63

Environmental protection, Administrative practice and procedure, Air pollution control, Hazardous substances, Intergovernmental relations, Reporting and recordkeeping requirements.

Dated: June 16, 2005.
Jeffrey R. Holmstead,
Assistant Administrator for Air and Radiation.

For the reasons set out in the preamble, title 40, chapter I, part 63 of the Code of Federal Regulations is amended as follows:

PART 63—[AMENDED]

1. The authority citation for part 63 continues to read as follows:

Authority: 42 U.S.C. 7401 et seq.

Subpart UUUU—[Amended]

2. Section 63.5610 is amended by revising the following definitions in paragraph (g) to read as follows:

§ 63.5610 What definitions apply to this subpart?

* * * * *

(g) * * *

Cellulose ether process change means a change to the cellulose ether process that occurred no earlier than January 1991 that allows the recovery of organic HAP, reduction in organic HAP usage, or reduction in organic HAP leaving the reactor. Includes extended cookout.

* * * * *

Viscose process change means a change to the viscose process that occurred no earlier than January 1991 that allows either the recovery of carbon disulfide or a reduction in carbon disulfide usage in the process.

* * * * *

[FR Doc. 05-12576 Filed 6-23-05; 8:45 am]

BILLING CODE 6560-50-P